ELECTION ASSISTANCE COMMISSION

Correction to Public Comment Period on VVSG Lifecycle Policy

AGENCY: U.S. Election Assistance Commission.

ACTION: Notice; correction.

SUMMARY: The U.S. Election Assistance Commission published a notice in the Federal Register requesting public comments on a proposed VVSG Lifecycle Policy, which is available at https://www.regulations.gov (docket ID: EAC-2021-0001). The Notice appeared in the Federal Register on November 9, 2021 in FR Doc. 2021-24501, on pages 62156-62157 (86 FR 62156).

The DATES section should be corrected to read:

Correction

DATES: Comments must be received no later than 5 p.m. Eastern Standard Time on December 14, 2021.

FOR FURTHER INFORMATION CONTACT: Jon Panek, phone (301) 960-1216, email jpanek@eac.gov; U.S. Election Assistance Commission, 633 3rd Street NW, Suite 200, Washington, DC 20001.

Kevin Rayburn,
General Counsel, U.S. Election Assistance Commission.

[FR Doc. 2021-26934 Filed 12-10-21; 8:45 am]

BILLING CODE P